DEPARTMENT OF DEFENSE

Office of the Secretary

32 CFR Part 324

[Docket ID: DOD-2019-OS-0054]

RIN 0790-AK70

DFAS Privacy Act Program

AGENCY: Defense Finance and Accounting Service, DoD.

ACTION: Final rule.

SUMMARY: This final rule removes DoD's regulation concerning the Defense Finance and Accounting Service Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, the part concerning the Defense Finance and Accounting Service Privacy Program is now unnecessary and may be removed from the CFR.

DATES: This rule is effective on November 20, 2019.

FOR FURTHER INFORMATION CONTACT: Gregory Outlaw at 317-212-4591.

SUPPLEMENTARY INFORMATION: DoD now has a single DoD-level Privacy Program rule at 32 CFR part 310 (84 FR 14728) that contains all the codified information required for the Department. The DFAS Privacy Act Program regulation at 32 CFR part 324, last updated on May 22, 1996 (61 FR 25561), is no longer required and can be removed.

It has been determined that publication of this CFR part removal for public comment is impracticable, unnecessary, and contrary to public interest since it is based on the removal of policies and procedures that are now reflected in another CFR part, 32 CFR part 310.

This rule is one of 20 separate component Privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs” does not apply.

List of Subjects in 32 CFR Part 324

Privacy.

PART 324—[REMOVED]

Accordingly, by the authority of 5 U.S.C. 301, 32 CFR part 324 is removed.

Dated: November 14, 2019.
Shelly E. Finke,
Alternate OSD Federal Register Liaison Officer, Department of Defense.

[FR Doc. 2019-25079 Filed 11-19-19; 8:45 am]

BILLING CODE 5001-06-P